DEPARTMENT OF TRANSPORTATION

Federal Aviation Administration

14 CFR Part 39

[Docket No. 2001-NM-74-AD; Amendment 39-13861; AD 2004-23-06]

RIN 2120-AA64

Airworthiness Directives; Boeing Model 757-200, -200PF, -200CB, and -300 Series Airplanes

AGENCY: Federal Aviation Administration, DOT.

ACTION: Final rule; correction.

SUMMARY: This document corrects two typographical errors that appeared in airworthiness directive (AD) 2004-23-06 that was published in the Federal Register on November 16, 2004 (69 FR 67047). The errors resulted in an incorrect reference to an amendment number and an incorrect reference to a service bulletin. This AD applies to certain Boeing Model 757-200, -200PF, -200CB, and -300 series airplanes. This AD requires inspection for damage of the W2800 wire bundle insulation, wire conductor, the wire bundle clamp bracket, and the BACC10GU( ) clamp, and repair or replacement with new or serviceable parts, if necessary. This AD also requires installation of spacers between the clamp and the bracket.

DATES: Effective December 21, 2004.

FOR FURTHER INFORMATION CONTACT: Elias Natsiopoulos, Aerospace Engineer, Systems and Equipment Branch, ANM-130S, FAA, Seattle Aircraft Certification Office, 1601 Lind Avenue, SW., Renton, Washington 98055-4056; telephone (425) 917-6478; fax (425) 917-6590.

SUPPLEMENTARY INFORMATION: Airworthiness Directive AD 2004-23-06, amendment 39-13861 (69 FR 67047), applicable to certain Boeing Model 757-200, -200PF, -200CB, and -300 series airplanes, was published in the Federal Register on November 16, 2004. The AD requires inspection for damage of the W2800 wire bundle insulation, wire conductor, the wire bundle clamp bracket, and the BACC10GU( ) clamp, and repair or replacement with new or serviceable parts, if necessary. The AD also requires installation of spacers between the clamp and the bracket.

In “PART 39—AIRWORTHINESS DIRECTIVES” of the regulatory text of AD 2004-23-06, an incorrect citation of the amendment number appears. The reference should read, “2004-23-06 Boeing: Amendment 39-13861.” Additionally, as published, the applicability of the regulatory text of the AD specifies: “Applicability: Model 757-200, -200PF, -200CB, as listed in Boeing Special Attention Service Bulletin 757-27-0089, Revision 1; and Model 757-300 series airplanes, as listed in Boeing Special Attention Service Bulletin 757-24-0090, Revision 1; both service bulletin revisions dated February 27, 2003; certificated in any category.” The correct reference for Model 757-200, -200PF, -200CB airplanes is Boeing Special Attention Service Bulletin 757-24-0089, Revision 1, dated February 27, 2003. In all other places, the AD references the correct service bulletin number.

No other parts of the regulatory information have been changed; therefore, the final rule is not republished in the Federal Register.

The effective date of this AD remains December 21, 2004.

§ 39.13 [Corrected]

On page 67049, in the first column, reference to “2004-23-06 Boeing: Amendment 39-2004-23-06. Docket 2001-NM-74-AD” is corrected to read as follows:

* * * * *

2004-23-06 Boeing: Amendment 39-13861. Docket 2001-NM-74-AD.

* * * * *

On page 67049, in the first column, the “Applicability” paragraph of AD 2004-23-06 is corrected to read as follows:

* * * * *

Applicability: Model 757-200, -200PF, -200CB, as listed in Boeing Special Attention Service Bulletin 757-24-0089, Revision 1; and Model 757-300 series airplanes, as listed in Boeing Special Attention Service Bulletin 757-24-0090, Revision 1; both service bulletin revisions dated February 27, 2003; certificated in any category.

* * * * *

Issued in Renton, Washington, on December 27, 2004.
Kevin M. Mullin,
Acting Manager, Transport Airplane Directorate, Aircraft Certification Service.

[FR Doc. 05-285 Filed 1-6-05; 8:45 am]

BILLING CODE 4910-13-P